DEPARTMENT OF THE INTERIOR

Geological Survey

[GX16EN05ESB0500]

Reopening of Nomination Period for State Government Members of the Advisory Committee on Climate Change and Natural Resource Science

AGENCY: U.S. Geological Survey, Interior.

ACTION: Notice.

SUMMARY: On October 19, 2015, the U.S. Department of the Interior published a notice inviting nominations for non-Federal members of the Advisory Committee on Climate Change and Natural Resource Science (Committee). The closing date for nominations was January 15, 2016. This Federal Register Notice reopens the nomination and comment period for an additional 30 days, for state government nominees only. If you have already submitted information to be considered for appointment to the Committee you do not have to resubmit it.

DATES: Written nominations must be received by February 22, 2016.

ADDRESSES: Send nominations to: Robin O'Malley, Policy and Partnership Coordinator, National Climate Change and Wildlife Science Center, U.S. Geological Survey, 12201 Sunrise Valley Drive, Mail Stop 516, Reston, VA 20192, romalley@usgs.gov.

FOR FURTHER INFORMATION CONTACT: Robin O'Malley, Policy and Partnership Coordinator, National Climate Change and Wildlife Science Center, U.S. Geological Survey, 12201 Sunrise Valley Drive, Mail Stop 516, Reston, VA 20192, romalley@usgs.gov.

SUPPLEMENTARY INFORMATION: On October 19, 2015, the U.S. Department of the Interior (DOI) published a notice inviting nominations for the Advisory Committee on Climate Change and Natural Resource Science (Committee), for members whose initial terms expired in May 2016. The Committee provides advice on matters and actions relating to the establishment and operations of the U.S. Geological Survey National Climate Change and Wildlife Science Center and the DOI Climate Science Centers. See: https://nccwsc.usgs.gov/acccnrs for more information.

Contacts with potential nominees from state government have indicated that additional time to secure management approval of their nomination is required. Because state governments are a key partner, the Department is reopening the nomination period, for state government nominees only.

Nominations should include a resume that describes the nominee's qualifications in enough detail to enable us to make an informed decision regarding meeting the membership requirements of the Committee and to contact a potential member.

The Committee is composed of approximately 25 members from the Federal Government, and the following interests: (1) State and local governments, including state membership entities; (2) Non-governmental organizations, including those whose primary mission is professional and scientific and those whose primary mission is conservation and related scientific and advocacy activities; (3) American Indian tribes and other Native American entities; (4) Academia; (5) Landowners, businesses, and organizations representing landowners or businesses.

In addition, the Committee may include scientific experts, and will include rotating representation from one or more of the institutions that host the DOI Climate Science Centers.

The Committee will meet approximately 2-4 times annually, and at such times as designated by the DFO. The Secretary of the Interior will appoint members to the Committee. Members appointed as special Government employees are required to file on an annual basis a confidential financial disclosure report.

No individual who is currently registered as a Federal lobbyist is eligible to serve as a member of the Committee.

Robin O'Malley,
Designated Federal Officer, ACCCNRS.

[FR Doc. 2016-01149 Filed 1-20-16; 8:45 am]

BILLING CODE 4311-MP-P